DEPARTMENT OF STATE

[Public Notice 9930]

60-Day Notice of Proposed Information Collection: Medical Examination for Visa or Refugee Applicant

ACTION: Notice of request for public comment.

SUMMARY: The Department of State is seeking Office of Management and Budget (OMB) approval for the information collections described below. In accordance with the Paperwork Reduction Act of 1995, we are requesting comments on this collection from all interested individuals and organizations. The purpose of this notice is to allow 60 days for public comment preceding submission of the collection to OMB.

DATES: The Department will accept comments from the public up to August 21, 2017.

ADDRESSES: You may submit comments by any of the following methods:

• Web: Persons with access to the Internet may comment on this notice by going to www.Regulations.gov. You can search for the document by entering “Docket Number: DOS-2017-0012” in the Search field. Then click the “Comment Now” button and complete the comment form.

• Email: PRA_BurdenComments@state.gov.

You must include the DS form number (if applicable), information collection title, and the OMB control number in any correspondence.

FOR FURTHER INFORMATION CONTACT: Direct requests for additional information regarding the collection listed in this notice, including requests for copies of the proposed collection instrument and supporting documents to Hector Perez-Casillas, who may be reached at PRA_BurdenComments@state.gov.

SUPPLEMENTARY INFORMATION: • Title of Information Collection: Medical Examination for Visa or Refugee Applicant.

• OMB Control Number: 1405-0113.

• Type of Request: Revision of a Currently Approved Collection.

• Originating Office: Bureau of Consular Affairs, Visa Office (CA/VO/L/R).

• Form Number: Forms DS-2054, DS-3030, DS-3025, DS-3026.

• Respondents: Visa and Refugee Applicants.

• Estimated Number of Respondents: 828,728.

• Estimated Number of Responses: 828,728.

• Average Time per Response: 1 hour.

• Total Estimated Burden Time: 828,728 annual hours.

• Frequency: Once per respondent.

• Obligation to respond: Required to Obtain or Retain a Benefit.

We are soliciting public comments to permit the Department to:

• Evaluate whether the proposed information collection is necessary for the proper functions of the Department.

• Evaluate the accuracy of our estimate of the time and cost burden of this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review

Abstract of Proposed Collection

Forms for this collection are completed by panel physicians for refugees, aliens seeking immigrant visas, and for some aliens seeking nonimmigrant visas to the United States. The collection records medical information necessary to determine whether refugees or visa applicants have medical conditions affecting the applicant's eligibility for a visa, or affecting the public health and requiring treatment.

Methodology

A panel physician, contracted by the consular post in accordance with instructions issued by the Centers for Disease Control (CDC), performs the medical examination of the applicant and completes the forms. Panel physicians follow Forms DS-3025, DS-3026, and DS-3030. Upon completing the applicant's medical examination, the examining panel physician submits a report to the consular officer on Form DS-2054.

Karin King,
Acting Deputy Assistant Secretary, Bureau of Consular Affairs, Department of State.

[FR Doc. 2017-12985 Filed 6-21-17; 8:45 am]

BILLING CODE 4710-06-P